DEPARTMENT OF ENERGY

Federal Energy Regulatory Commission

[Docket No. RP00-170-000]

Columbia Gas Transmission Corporation; Notice of Proposed Change in Gas Tariff

February 1, 2000.

Take notice that on January 28, 2000, Columbia Gas Transmission Corporation (Columbia) tendered for filing as part of its FERC Gas Tariff, Second Revised Volume No. 1, the tariff sheets listed on Appendix A to the filing, with a proposed effective date of March 1, 2000.

Columbia is making the instant filing to reflect various administrative revisions to its FERC Gas Tariff, Second Revised Volume No. 1 to reflect items including, but not limited to, changes to date references on various forms of service agreements and revisions to company contact information.

Columbia states further that copies of this filing have been mailed to all of its customers and affected state regulatory commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Sections 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-2655 Filed 2-4-00; 8:45 am]

BILLING CODE 6717-01-M